DEPARTMENT OF COMMERCE

National Oceanic and Atmospheric Administration

RIN 0648-XA626

Marine Mammals; File No. 16111

AGENCY: National Marine Fisheries Service (NMFS), National Oceanic and Atmospheric Administration (NOAA), Commerce.

ACTION: Notice; issuance of permit amendment.

SUMMARY: Notice is hereby given that John Calambokidis, Cascadia Research Collective, Waterstreet Building, 218½ West Fourth Avenue, Olympia, WA 89501, has been issued a minor amendment to Scientific Research Permit No. 16111-01.

ADDRESSES: The amendment and related documents are available for review upon written request or by appointment in the Permits and Conservation Division, Office of Protected Resources, NMFS, 1315 East-West Highway, Room 13705, Silver Spring, MD 20910; telephone: (301) 427-8401; fax: (301) 713-0376.

FOR FURTHER INFORMATION CONTACT: Rosa L. González or Courtney Smith, telephone: (301) 427-8401.

SUPPLEMENTARY INFORMATION: The requested amendment has been granted under the authority of the Marine Mammal Protection Act of 1972, as amended (16 U.S.C. 1361 et seq.) and the regulations governing the taking and importing of marine mammals (50 CFR part 216).

The original permit (No. 16111), issued on July 12, 2012 (77 FR 44218) authorized Mr. Calambokidis to study cetaceans and pinnipeds in the eastern North Pacific, from Central America to Alaska. The research is a continuation of long-term studies designed to examine marine mammal abundance, distribution, population structure, habitat use, social structure, movement patterns, diving behavior, and diet. Focal species are blue (Balaenoptera musculus), fin (B. physalus), humpback (Megaptera novaeangliae), eastern gray (Eschrichtius robustus), sperm (Physeter macrocephalus), and beaked (Mesoplodon spp.) whales. An additional 15 cetacean species and five pinniped species may be studied, including the endangered sei whale (B. borealis), endangered Southern Resident stock of killer whales (Orcinus orca), and the threatened eastern stock of Steller sea lions (Eumetopias jubatus). Vessel research includes photo-identification, behavioral focal follows, underwater observations and filming, hydroacoustic prey determination, passive acoustic recording, breath sampling, biopsy sampling, collection of sloughed skin, and attachment of suction cup and dart tags. Aerial surveys may be conducted to study abundance and distribution, and to track tagged animals. Ground surveys may be conducted for population counts and scat collection to study harbor seals (Phoca vitulina) and other pinnipeds at haul-out areas in Puget Sound and throughout Washington. Permit No. 16111 expires on July 15, 2017. The minor amendment (No. 16111-01) changes the manner in which marine mammals may be taken but does not change any other terms or conditions of the permit. It authorizes the use of archival tags via dart-attachment in addition to currently permitted LIMPET (Low Impact Minimally Percutaneous Electronic Transmitter) tags. It also authorizes aerial takes from small unmanned aerial systems (sUAS), primarily small quadcopters, for some of the same purposes described in the original application including obtaining size measurements of whales, identifying scaring/markings, and monitoring behavior especially in response to ship noise and Navy sonar. The permit expires July 15, 2017.

Dated: September 12, 2014.
Julia Harrison,
Chief, Permits and Conservation Division, Office of Protected Resources, National Marine Fisheries Service.

[FR Doc. 2014-22496 Filed 9-19-14; 8:45 am]

BILLING CODE 3510-22-P